NUCLEAR REGULATORY COMMISSION

[NRC-2010-0181]

Draft Regulatory Guide: Issuance, Availability

AGENCY: Nuclear Regulatory Commission.

ACTION: Notice of Issuance and Availability of Draft Regulatory Guide, DG-3039, “Standard Format and Content for Emergency Plans for Fuel Cycle and Materials Facilities.”

FOR FURTHER INFORMATION CONTACT: Kevin M. Ramsey, U.S. Nuclear Regulatory Commission, Washington, DC 20555-0001, telephone: (301) 492-3123 or e-mail Kevin.Ramsey@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG) is temporarily identified by its task number, DG-3039, which should be mentioned in all related correspondence. DG-3039 is proposed Revision 1 of Regulatory Guide 3.67, dated January 1992.

This guide provides guidance acceptable to the NRC staff on the information to be included in emergency plans and establishes a format for presenting the information. Use of a standard format will help ensure uniformity and completeness in the preparation of emergency plans.

The NRC's regulations in 10 CFR part 30, “Rules of General Applicability to Domestic Licensing of Byproduct Material;” part 40, “Domestic Licensing of Source Material;” part 63, “Disposal of High-Level Radioactive Wastes in a Geologic Repository at Yucca Mountain, Nevada;” part 70, “Domestic Licensing of Special Nuclear Material;” part 72, “Licensing Requirements for the Independent Storage of Spent Nuclear Fuel, High-Level Radioactive Waste, and Reactor-Related Greater Than Class C Waste;” and part 76, “Certification of Gaseous Diffusion Plants,” require some fuel cycle and materials licensees to prepare emergency plans. The information specified in this guide should be included in the licensee's emergency plan to comply with the requirements of 10 CFR 30.32(i)(3), 40.31(j)(3), 63.161, 70.22(i)(3), 72.32, and 76.91.

II. Further Information

The NRC staff is soliciting comments on DG-3039. Comments may be accompanied by relevant information or supporting data and should mention DG-3039 in the subject line.

ADDRESSES: You may submit comments by any one of the following methods. Please include Docket ID NRC-2010-0181 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0181. Address questions about NRC dockets to Carol Gallagher 301-492-3668; e-mail Carol.Gallagher@nrc.gov.

Mail comments to: Chief, Rulemaking, Announcements and Directives Branch (RADB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. Federal Rulemaking Web site: Public comments and supporting materials related to this notice can be found at http://www.regulations.gov by searching on Docket ID: NRC-2010-0181.

Comments would be most helpful if received by July 12, 2010. Comments received after that date will be considered if it is practical to do so, but the NRC is able to ensure consideration only for comments received on or before this date. Although a time limit is given, comments and suggestions in connection with items for inclusion in guides currently being developed or improvements in all published guides are encouraged at any time.

Requests for technical information about DG-3039 may be directed to the NRC contact, Kevin M. Ramsey at (301) 492-3123 or e-mail Kevin.Ramsey@nrc.gov.

Electronic copies of DG-3039 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML093290274.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 11th day of May, 2010.
For the Nuclear Regulatory Commission.
Andrea D. Valentin,
Chief, Regulatory Guide Development Branch, Division of Engineering, Office of Nuclear Regulatory Research.

[FR Doc. 2010-11975 Filed 5-18-10; 8:45 am]

BILLING CODE 7590-01-P